DEPARTMENT OF ENERGY

Federal Energy Regulatory Commission

Notice of Amendment of License and Soliciting Comments, Motions To Intervene, and Protests

March 1, 2001.

Take notice that the following hydroelectric application has been filed with the Commission and is available for public inspection:

a: Application Type: Amendment of License.

b: Project No.: 8864-016.

d: Applicant: Calligan Hydro, Inc.

e: Name of Project: Calligan Creek Hydroelectric Project.

f: Location: The Calligan Creek Hydroelectric Project will be sited on Calligan Creek within the Snoqualmie River Basin of King County, Washington. No federal lands would be affected.

g. Filed Pursuant to: Federal Power Act, 16 U.S.C. 791(a)-825(r).

h: Applicant Contact: Cheryl Krueger, Hancock Hydro, Inc., 19515 North Creek Parkway, Suite 310, Bothell, WA 98011; (425) 487-6541.

i. FERC Contact: Questions about this notice can be answered by Kenneth Hogan at (202) 208-0434 or e-mail address: kenneth.hogan@ferc.fed.us. The Commission cannot accept comments, recommendations, motions to intervene or protests sent by e-mail; these documents must be filed as described below.

j. Deadline for filing comments, terms and conditions, motions to intervene, and protests: 30 days from the issuance date of this notice.

All documents (original and eight copies) should be filed with: David P. Boergers, Secretary, Federal Energy Regulatory Commission, 888 First Street, NE, Washington, DC 20426. Comments and protests may be filed electronically via the internet in lieu of paper. See 18 CFR 385.2001(a)(1)(iii) and the instructions on the Commission's web site at http://www.ferc.fed.us/efi/doorbell.htm.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Calligan Creek Hydro Inc., has applied for license amendment to the Calligan Creek Hydroelectric Project. The current license for the project was issued on May 13, 1993. An order amending the license was issued on June 2, 1994, approving the change from an overhead transmission line to a buried one. On April 10, 1995, the Commission issued an order granting an extension of time for the construction of the project commencement date of May 13, 1997 and construction completion on May 13, 1999. On March 24, 1999, the Commission issued another order extending the date for the projects construction commencement and construction completion to May 13, 2001 and May 13, 2003, respectively. No project facilities have been constructed to date.

The licensee has requested an amendment to change the project capacity from 5.4 MW to 7.4 MW with a 36 percent increase in hydraulic capacity to allow maximum power production during high flows; modify the intake and diversion structures to accommodate the increased flow needed to support the increased generation capacity, including an increase of surface area to the fish screens; bury the first 2,000 feet of the penstock to a depth of about 100 feet to eliminate the need for the approved siphon; and change the current tailrace design from a 140-foot-long buried pipe to an approximately 100-foot-long open channel.

l. A copy of the application is available for inspection and reproduction at the Commission's Public Reference Room at 888 First Street NE, Room 2A, Washington, DC 20426, or by calling (202) 208-1371. The application may be viewed on the web at http://www.ferc.fed.us/online/rims.htm. Call (202) 208-2222 for assistance. A copy is also available for inspection and reproduction at the address in item (h) above.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “RECOMMENDATIONS FOR TERMS AND CONDITIONS,” “PROTEST,” or “MOTION TO INTERVENE,” as applicable, and the Project Number of the particular application to which the filing refers. A copy of any motion to intervene must also be served upon each representative of the Applicant specified in the particular application.

Federal, state, local agencies are invited to file comments on the described application. A copy of the application may be obtained by agencies directly from the applicant. If an agency does not file comments within the time specified for filing comments, it will be presumed to have no comments. One copy of an agency's comments must also be sent to the Applicant's representatives.

David P. Boergers,
Secretary.

[FR Doc. 01-5529 Filed 3-6-01; 8:45 am]

BILLING CODE 6717-01-M